DEPARTMENT OF TRANSPORTATION

Federal Motor Carrier Safety Administration

[Docket No. FMCSA-2018-0347]

Commercial Driver's License Standards: Application for Exemption; International Motors LLC, Formerly Known as Navistar, Inc.

AGENCY: Federal Motor Carrier Safety Administration (FMCSA), Department of Transportation (DOT).

ACTION: Notice of final disposition; renewal of exemption.

SUMMARY: FMCSA announces its final decision to renew the exemption granted to International Motors, LLC (International), formerly known as Navistar, Inc.,¹ from the commercial driver's license (CDL) regulations for one of its commercial motor vehicle (CMV) drivers. The exemption allows Mr. Thomas Nickels, Senior Vice President of the Cabin and Chassis R&D Group for International's parent company, TRATON SE, to test drive various International test fleet vehicles on roads of the United States.

¹ International informed FMCSA of its name change in an email dated January 27, 2025.

DATES: This renewed exemption is effective from November 21, 2024, and expires on November 21, 2029.

FOR FURTHER INFORMATION CONTACT: Pearlie Robinson, Driver and Carrier Operations Division; Office of Carrier, Driver and Vehicle Safety Standards; FMCSA; (202) 366-4225; pearlie.robinson@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2018-0347/document and choose the document to review. To view comments, click this notice, then click “Browse Comments.”

If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analyses. The Agency must also provide an opportunity for public comment on the request.

The Agency reviews safety analyses and public comments and determines whether granting the exemption would likely achieve a level of safety equivalent to, or greater than, the level that would be achieved absent such exemption, pursuant to 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulation(s) Requirements

Under 49 CFR 383.23, no person shall operate a CMV without having taken and passed knowledge and driving skills tests for a commercial learner's permit or CDL that meet the Federal standards contained in subparts F, G, and H of part 383, as applicable, for the CMV that person operates or expects to operate. Such drivers are also subject to the controlled substances and alcohol testing requirements of 49 CFR part 382.

Application for Renewal of Exemption

The renewal application from International was described in detail in a Federal Register notice published on January 16, 2025 (90 FR 4832), and will not be repeated here, as the facts have not changed. In the same Federal Register notice, FMCSA issued a notice of provisional renewal of exemption for International for a period of 6 months.

IV. Public Comments

The Agency did not receive comments in response to International's request to renew its exemption from the CDL requirements.

V. Agency Decision

Mr. Nickels holds a German commercial license, and FMCSA has previously determined that the process for obtaining a German commercial license is comparable to, or as effective as, the requirements of part 383 and adequately assesses the driver's ability to operate CMVs in the United States. In 2019, the Agency granted similar exemptions to International, under its former name Navistar, Inc., for other drivers on two occasions [April 15, 2019 (84 FR 15283); December 27, 2019 (84 FR 71525)]. The Agency has also granted similar exemptions to Daimler Trucks North America for holders of German commercial licenses.² The Agency has no record of any CMV incidents indicating that there has been a reduction in the safety of operations by the drivers previously granted exemptions, including Mr. Nickels himself.

² FMCSA granted similar exemptions to Daimler Trucks North America on May 25, 2012 (77 FR 31422); July 22, 2014 (79 FR 42626); March 27, 2015 (80 FR 16511); October 5, 2015 (80 FR 60220); July 12, 2016 (81 FR 45217); July 25, 2016 (81 FR 48496); August 17, 2017 (82 FR 39151), September 10, 2018 (83 FR 45742); April 27, 2022 (87 FR 25081; 87 FR 25083) and other dates.

FMCSA therefore concludes that renewing the exemption granted on November 21, 2019, for another five years, under the terms and conditions listed below, will likely achieve a level of safety that is equivalent to, or greater than, the level of safety achieved absent the exemption.

VI. Exemption Decision

FMCSA reaffirms its provisional decision to renew the exemption for a period of five years subject to the terms and conditions of this decision. The exemption from the requirements of 49 CFR 383.23 is effective November 21, 2024, through November 21, 2029, 11:59 p.m. local time

A. Applicability of Exemption

This exemption applies only to International's driver Thomas Nickels. This driver is granted an exemption from the CDL requirements in 49 CFR 383.23 to allow him to drive CMVs in the United States without a State-issued CDL. Consequently, this driver is not subject to the requirements of 49 CFR part 382, including the Clearinghouse requirements in subpart G.

B. Terms and Conditions

When operating under this exemption, International and Mr. Nickels are subject to the following terms and conditions:

1. The driver and carrier must comply with all other applicable provisions of the Federal Motor Carrier Safety Regulations (49 CFR parts 350-399);

2. The driver must be in possession of the exemption document and a valid German commercial license;

3. The driver must be employed by, and operate the CMV within the scope of his duties for, International;

4. At all times while operating a CMV under this exemption, the driver must be accompanied by a holder of a State-issued CDL who is familiar with the routes traveled;

5. International must notify FMCSA in writing within 5 business days of any accident, as defined in 49 CFR 390.5, involving this driver;

6. International must notify FMCSA in writing if the driver is convicted of a disqualifying offense under § 383.51 or § 391.15 of the Federal Motor Carrier Safety Regulations; and

7. International must implement a drug and alcohol testing program that satisfies the requirements in 49 CFR part 382, subparts A-F, including, but not limited to, all testing requirements and participation in a consortium for random testing. International must require that Mr. Nickels be subject to those requirements. International must provide documentation of its drug and alcohol testing program upon request to FMCSA.

D. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

E. Notification to FMCSA

International must notify FMCSA within 5 business days of any positive drug or alcohol tests, or accident (as defined in 49 CFR 390.5) involving Thomas Nickels while operating a CMV under the terms of this exemption. The notification must include the following information:

a. Identifier of the Exemption: “International—Thomas Nickels”;

b. Name of operating carrier and USDOT number;

c. Date of the accident;

d. City or town, and State, in which the accident occurred, or closest to the accident scene;

e. Driver's name and license number;

f. Co-driver's name (if any) and license number;

g. Vehicle number and State license number;

h. Number of individuals suffering physical injury;

i. Number of fatalities;

j. The police-reported cause of the crash, if provided by the enforcement agency;

k. Whether the driver was cited for violation of any traffic laws, motor carrier safety regulations; and

l. The total on-duty time accumulated during the 7 consecutive days prior to the date of the crash, and the total on-duty time and driving time in the work shift prior to the crash.

Reports filed under this provision shall be emailed to MCPSD@DOT.GOV with “International FMCSA-2018-0347” as the subject line.

F. Termination

FMCSA does not believe the driver or the motor carrier covered by this exemption will experience any deterioration of their safety records. However, the exemption will be rescinded if: (1) International or the driver operating under the exemption fail to comply with the terms and conditions of the exemption; (2) the exemption has resulted in a lower level of safety than was maintained before it was granted; or (3) continuation of the exemption would not be consistent with the goals and objects of 49 U.S.C. 31136(e) and 31315(b).

Sue Lawless,
Assistant Administrator.

[FR Doc. 2025-06821 Filed 4-18-25; 8:45 am]

BILLING CODE 4910-EX-P